DEPARTMENT OF HEALTH AND HUMAN SERVICES

Centers for Disease Control and Prevention

Disease, Disability, and Injury Prevention and Control Special Emphasis Panel (SEP)—CE24-013, Research Grants To Identify Effective Community-Based Strategies for Overdose Prevention (R01); Amended Notice of Closed Meeting

Notice is hereby given of a change in the meeting of the Disease, Disability, and Injury Prevention and Control Special Emphasis Panel (SEP)—CE24-013, Research Grants to Identify Effective Community-Based Strategies for Overdose Prevention (R01); March 12-13, 2024, 8:30 a.m.-5 p.m., EDT, web conference, in the original Federal Register notice. The meeting notice was published in the Federal Register on October 18, 2023, Volume 88, Number 200, page 71867.

The notice is being amended to change the meeting dates to a three-day meeting. The notice should read as follows:

Name of Committee: Disease, Disability, and Injury Prevention and Control Special Emphasis Panel (SEP)—CE24-013, Research Grants to Identify Effective Community-Based Strategies for Overdose Prevention (R01).

Dates: March 12-14, 2024.

Times: 8:30 a.m.-5 p.m., EDT.

The meeting is closed to the public.

FOR FURTHER INFORMATION CONTACT: Aisha L. Wilkes, M.P.H., Scientific Review Officer, National Center for Injury Prevention and Control, Centers for Disease Control and Prevention, 4770 Buford Highway NE, Mailstop S106-9, Atlanta, Georgia 30341. Telephone: (404) 639-6473; Email: AWilkes@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-28614 Filed 12-27-23; 8:45 am]

BILLING CODE 4163-18-P